DEPARTMENT OF ENERGY

Federal Energy Regulatory Commission

[Project No. 15227-000]

Ortus Power Resources Colorado, LLC; Notice of Preliminary Permit Application Accepted for Filing and Soliciting Comments, Motions To Intervene, and Competing Applications

On July 9, 2021, Ortus Power Resources Colorado, LLC, filed an application for a preliminary permit, pursuant to section 4(f) of the Federal Power Act (FPA), proposing to study the feasibility of Phantom Canyon Pumped Storage Project to be located near the Town of Penrose, in Fremont, Pueblo, and El Paso Counties, Colorado. The sole purpose of a preliminary permit, if issued, is to grant the permit holder priority to file a license application during the permit term. A preliminary permit does not authorize the permit holder to perform any land-disturbing activities or otherwise enter upon lands or waters owned by others without the owners' express permission.

The proposed closed-loop pumped storage project would consist of: (1) A new 4,728-foot-long, 202-foot-high roller compacted concrete gravity dam impounding a new upper reservoir with a surface area of 93.8 acres, and a total storage capacity of 9,100 acre-feet at a normal maximum operating elevation of 6,176 feet above average mean sea level (msl); (2) a new 2,638-foot-long, 132-foot-high zoned fill/rockfill embankment dam (Main Dam), a new 4,071-foot-long, 64-foot-high saddle dam (Saddle Dam #1), a new 2,104-foot-long, 58-foot-high saddle dam (Saddle Dam #2), and a new 55-foot-long, 8-foot-high saddle dam (Saddle Dam #3) impounding a new lower reservoir a surface area of 322 acres, and a total storage capacity of 17,436 acre-feet at a normal maximum operating elevation of 5,630 feet msl; (3) a new 29,000-foot-long, 48-inch-diameter concrete reinforced diversion pipeline for water delivery from the Arkansas River to the lower reservoir; (4) a new 6,500-foot-long, 18- to 20-foot-diameter penstock connecting the upper and lower reservoirs; (5) a new 50,000 square foot powerhouse containing four 125-megawatt reversible pump/turbine generators; and (6) a new 230-kilovolt (kV) substation that will connect to the grid via one of three pathways: (a) Interconnection with the existing 230-kV Western Area Power Authority transmission line that bisects the project site; (b) interconnect with the Xcel transmission and distribution network at the Midway substation (would require 28-mile-long project transmission line); or (c) interconnection with the Colorado Springs Utility transmission and distribution network at the Nixon substation (would require approximately 33-mile-long project transmission line). The estimated annual power generation at the Phantom Pumped Storage Project would be between 800,00 and 2,800,000 megawatt hours.

Applicant Contact: Mr. Peter A. Gish, 8 The Green, Suite #4411, Dover, Delaware 13301, peter@ortusclimate.com.

FERC Contact: Ousmane Sidibe; Ousmane.sidibe@ferc.gov, (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspa. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15227-000.

More information about this project, including a copy of the application, can be viewed or printed on the “eLibrary” link of Commission's website at https://www.ferc.gov/ferc-online/elibrary/overview. Enter the docket number (P-15227) in the docket number field to access the document. For assistance, contact FERC Online Support.

Dated: January 26, 2022.
Kimberly D. Bose,
Secretary.

[FR Doc. 2022-01998 Filed 1-31-22; 8:45 am]

BILLING CODE 6717-01-P